DEPARTMENT OF ENERGY

Federal Energy Regulatory Commission

Combined Notice of Filings #1

Take notice that the Commission received the following electric corporate filings:

Docket Numbers: EC19-47-000.

Applicants: Meyersdale Storage, LLC.

Description: Application for Authorization Under Section 203 of the Federal Power Act, et al. of Meyersdale Storage, LLC.

Filed Date: 1/18/19.

Accession Number: 20190118-5200.

Comments Due: 5 p.m. ET 2/8/19.

Take notice that the Commission received the following electric rate filings:

Docket Numbers: ER15-1682-006.

Applicants: TransCanyon DCR, LLC.

Description: Compliance filing: Formula Rate Template Compliance Filing for ADIT to be effective 6/27/2018.

Filed Date: 1/22/19.

Accession Number: 20190122-5101.

Comments Due: 5 p.m. ET 2/12/19.

Docket Numbers: ER18-1739-001.

Applicants: Midcontinent Independent System Operator, Inc.

Description: Compliance filing: 2019-01-22 Compliance filing by MISO TOs to revise Att O and ADIT Work Papers to be effective 1/1/2019.

Filed Date: 1/22/19.

Accession Number: 20190122-5078.

Comments Due: 5 p.m. ET 2/12/19.

Docket Numbers: ER18-2323-001.

Applicants: Midcontinent Independent System Operator, Inc., Michigan Electric Transmission Company.

Description: Compliance filing: 2019-01-22 Compliance Filing re METC Revisions to Attachment O Formula Rates to be effective 1/1/2019.

Filed Date: 1/22/19.

Accession Number: 20190122-5072.

Comments Due: 5 p.m. ET 2/12/19.

Docket Numbers: ER18-2323-002.

Applicants: Midcontinent Independent System Operator, Inc., ITC Midwest LLC.

Description: Compliance filing: 2019-01-22_Compliance Filing re ITC Companies Revisions to Att O Formula Rates to be effective 1/1/2019.

Filed Date: 1/22/19.

Accession Number: 20190122-5082.

Comments Due: 5 p.m. ET 2/12/19.

Docket Numbers: ER19-160-001.

Applicants: PJM Interconnection, L.L.C.

Description: Compliance filing: Compliance Filing per December 20, 2018 order re: Schedule 1A clean-up to be effective 9/15/2018.

Filed Date: 1/22/19.

Accession Number: 20190122-5108.

Comments Due: 5 p.m. ET 2/12/19.

Docket Numbers: ER19-224-001.

Applicants: Southwest Power Pool, Inc.

Description: Tariff Amendment: Deficiency Response—Add Competitive Upgrade Re-Evaluation Process to be effective 12/29/2018.

Filed Date: 1/18/19.

Accession Number: 20190118-5141.

Comments Due: 5 p.m. ET 2/8/19.

Docket Numbers: ER19-358-000.

Applicants: DG Whitefield LLC.

Description: Report Filing: Suppliment to 1 to be effective N/A.

Filed Date: 1/18/19.

Accession Number: 20190118-5145.

Comments Due: 5 p.m. ET 1/28/19.

Docket Numbers: ER19-359-000.

Applicants: Springfield Power, LLC.

Description: Report Filing: Supplement to 1 to be effective N/A.

Filed Date: 1/18/19.

Accession Number: 20190118-5147.

Comments Due: 5 p.m. ET 1/28/19.

Docket Numbers: ER19-433-002.

Applicants: Union Electric Company.

Description: Tariff Amendment: Request to Defer Action to be effective 12/31/9998.

Filed Date: 1/18/19.

Accession Number: 20190118-5119.

Comments Due: 5 p.m. ET 2/8/19.

Docket Numbers: ER19-838-000.

Applicants: Midcontinent Independent System Operator, Inc.

Description: Compliance filing: 2019-01-22 ATC Revisions to Attachment O for ADIT in response to EL18-157 to be effective 6/27/2018.

Filed Date: 1/22/19.

Accession Number: 20190122-5062.

Comments Due: 5 p.m. ET 2/12/19.

Docket Numbers: ER19-839-000.

Applicants: Virginia Electric and Power Company, PJM Interconnection, L.L.C.

Description: Compliance filing: Dominion submits revisions to Att. H-16A re: Compliance Filing in EL18-167 to be effective 6/27/2018.

Filed Date: 1/22/19.

Accession Number: 20190122-5090.

Comments Due: 5 p.m. ET 2/12/19.

Docket Numbers: ER19-845-000.

Applicants: Southern California Edison Company.

Description: Compliance filing: Revisions to Transmission Formula Rate Compliance Filing Docket No. EL18-164 to be effective 1/1/2019.

Filed Date: 1/22/19.

Accession Number: 20190122-5107.

Comments Due: 5 p.m. ET 2/12/19.

Docket Numbers: ER19-846-000.

Applicants: Antelope DSR 3, LLC.

Description: Baseline eTariff Filing: Antelope DSR 3, LLC MBR Tariff to be effective 1/23/2019.

Filed Date: 1/22/19.

Accession Number: 20190122-5132.

Comments Due: 5 p.m. ET 2/12/19.

Docket Numbers: ER19-847-000.

Applicants: San Pablo Raceway, LLC.

Description: Baseline eTariff Filing: San Pablo Raceway MBR Tariff to be effective 1/23/2019.

Filed Date: 1/22/19.

Accession Number: 20190122-5138.

Comments Due: 5 p.m. ET 2/12/19.

Docket Numbers: ER19-848-000.

Applicants: Arizona Public Service Company.

Description: § 205(d) Rate Filing: Service Agreement No. 371—TOUA to be effective 1/1/2019.

Filed Date: 1/22/19.

Accession Number: 20190122-5167.

Comments Due: 5 p.m. ET 2/12/19.

Docket Numbers: ER19-848-000.

Applicants: Arizona Public Service Company.

Description: § 205(d) Rate Filing: Service Agreement No. 371—TOUA to be effective 1/1/2019.

Filed Date: 1/22/19.

Accession Number: 20190122-5168.

Comments Due: 5 p.m. ET 2/12/19.

Docket Numbers: ER19-849-000.

Applicants: Arizona Public Service Company.

Description: Tariff Cancellation: Cancellation of Service Agreement No. 347 to be effective 3/24/2019.

Filed Date: 1/22/19.

Accession Number: 20190122-5173.

Comments Due: 5 p.m. ET 2/12/19.

Docket Numbers: ER19-850-000.

Applicants: Plymouth Rock Energy, LLC.

Description: § 205(d) Rate Filing: Normal filing to be effective 1/23/2019.

Filed Date: 1/22/19.

Accession Number: 20190122-5183.

Comments Due: 5 p.m. ET 2/12/19.

Docket Numbers: ER19-851-000.

Applicants: MRP San Joaquin Energy, LLC.

Description: Compliance filing: BAseline Refile to be effective 12/13/2018.

Filed Date: 1/22/19.

Accession Number: 20190122-5201.

Comments Due: 5 p.m. ET 2/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2019.
Nathaniel J. Davis, Sr.,
Deputy Secretary.

[FR Doc. 2019-00522 Filed 1-30-19; 8:45 am]

BILLING CODE 6717-01-P